FEDERAL EMERGENCY MANAGEMENT AGENCY

Agency Information Collection Activities: Submission for OMB Review; Comment Request

ACTION: Notice and request for comments.

SUMMARY: The Federal Emergency Management Agency is submitting a request for review and approval of a collection of information under the emergency processing procedures in the Office of Management and Budget (OMB) regulation 5 CFR 1320.13. FEMA is requesting that this information collection be approved by January 21, 2003. The approval will authorize FEMA to use the collection through July 31, 2003. FEMA plans to follow this emergency request with a request for a 3-year approval. The request will be processed under OMB's normal clearance procedures in accordance with the provisions of OMB regulation 5 CFR 1320.10. To help us with the timely processing of the emergency and normal clearance submissions to OMB, FEMA invites the general public to comment on the proposed collection of information.

SUPPLEMENTARY INFORMATION: Section 420 of the Robert R. Stafford Disaster Relief and Emergency Assistance Act, Public Law 93-288, as amended, authorizes the President to provide assistance, including grants, equipment, supplies, and personnel, to any State for the suppression of any fire on publicly or privately-owned forest or grassland, which threatens such destruction as would constitute a major disaster. Under E.O. 12148, the President has delegated this authority to the Director of FEMA, who in turn has re-delegated the authority to the Response and Recovery Executive Associate Director. FEMA has issued regulations pertaining to fire suppression assistance (FSA) contained in 44 CFR part 206, subpart L.

Collection of Information:

Title: Request for Fire Suppression Assistance.

Type of Information Collection: Reinstatement, with change, of a previously approved collection for which approval has expired.

OMB Number: 3067-0066.

Abstract: FEMA provides assistance for fire suppression of forest or grassland fires, which threatens destruction to life and/or improved property as would constitute a major disaster under Fire Suppression Assistance Program (FSAP). FEMA Form 20-10, Financial Status Report, is used by the Grantee during the closeout process to provide FEMA with a final reporting of costs under the FSAP. FEMA Form 90-91, Damage Survey Report, is prepared by the Principal Advisor, State Forester, and a FEMA representative upon termination of eligible fire suppression assistance. Standard Form (SF) 424, Federal Assistance (referred to by States as a Fire Project Application), is submitted by a State immediately after FEMA's Regional Director terminates fire suppression assistance. Standard Form 270, Request for Advance or Reimbursement, is used by the State as an option to receive funds. In addition, under Section 420 of the Stafford Act there must be a FEMA-State Agreement. Also, a State Administrative Plan must be developed by the State for the Administration of a Fire Suppression Assistance Grant. The plan must designate the State agency that will be responsible for the administration of the program and ensure compliance with the law and regulation applicable to (FSA) grants and ensure the administrative plan is incorporated into the State Emergency Plan. Applicants are required to notify FEMA of all benefits, actual or anticipated, received from other sources for the lost for which they are applying to FEMA for assistance. The State may appeal any cost or eligibility determination under the approved declaration within 60 days after receipt of the notice of action being appealed.

Affected Public: State, local or tribal government.

Estimated Total Annual Burden Hours:

Information collection | Respondents per year | House per response | Total burden
FEMA-Statement Agreement | 11 | 1.5 hour | 16.5 hours
Standard Form 424 | 42 | 1 hour | 42 hours
FEMA Form 20-10 | 42 | 1 hour | 42 hours
FEMA Form 90-91 | 42 | 30 minutes | 21 hours
Standard Form 270 or Letter of Credit | 1 | 30 minutes | 30 minutes
State Administrative Plan | 11 | 8 hour | 88 hours
Hazard Mitigation Plan | 11 | 160 hours | 1,760 hours
Appeals | 1 | 1 hour | 1 hour
Duplication of Benefits | 1 | 1 hour | 1 hour
Estimated total | 42 |  | 1,972

Estimated Cost: FEMA anticipate costs will be significantly less for the majority of applying States—approximately $500.00 per year for those States with State Administrative Plans and Hazard Mitigation Plans already developed as a requirement of receiving fire suppression assistance grants previously. A GS-12 at $23.94 per hour processes 6 fire suppression assistance grants, it takes no more than 11 hours to process each grant from start to finish. Seven personnel processing 6 grants = 42 grants × 11 hours = 462 hours × $23.94 = $11,060.28.

Comments: Written comments are solicited to (a) evaluate whether the proposed data collection is necessary for the proper performance of the agency, including whether the information shall have practical utility; (b) evaluate the accuracy of the agency's estimate of the burden of the proposed collection of information; (c) enhance the quality, utility, and clarity of the information to be collected; and (d) minimize the burden of the collection of information on those who are to respond, including through the use of appropriate automated, electronic, mechanical, or other technological collection techniques or other forms of information technology, e.g. permitting electronic submission of responses. Submit comments to the OMB within 30 days of the date of this notice. To ensure that FEMA is fully aware of any comments or concerns that you share with OMB, please provide us with a copy of your comments. FEMA will continue to accept comments for 60 days from the date of this notice.

OMB Addresses: Interested persons should submit written comments to the Office of Management and Budget, Office of Information and Regulatory Affairs, Attention: Desk Officer for the Federal Emergency Management Agency, 725 17th Street, NW., Washington, DC 20503.

FEMA Addresses: Submit written comments to Muriel B. Anderson, Chief, Records Management Branch, Information Resources Management Division, Information Technology and Services Directorate, Federal Emergency Management Agency, 500 C Street, SW., Room 316, Washington, DC 20472.

FOR FURTHER INFORMATION CONTACT: Requests for additional information contact Lorine Boardwine, Response and Recovery Directorate, at (202) 646-2948. Contact Ms. Anderson at (202) 646-2625, facsimile number (202) 646-3347, or e-mail address InformationCollections@fema.gov for copies of the proposed collection of information.

Dated: December 17, 2002.
Edward W. Kernan,
Division Director, Information Resources Management Division, Information Technology Services Directorate.

[FR Doc. 02-32521 Filed 12-24-02; 8:45 am]

BILLING CODE 6718-01-P